ENVIRONMENT PROTECTION AGENCY

[FRL-7129-1]

Notice of Public Meeting of the National Environmental Education Advisory Council

Notice is hereby given that the National Environmental Education Advisory Council, established under section 9 of the National Environmental Education Act of 1990 (the Act), will hold a public meeting on January 31 and February 01, 2002. The meeting will take place at the Four Seasons Hotel, 411 University Street, Seattle, WA, 98101 from 9 am to 5 pm on Thursday, January 31st and Friday, February 1st. The purpose of this meeting is to provide the Council with an opportunity to advise EPA's Office of Communications, Education and Media Relations (OCEMR) and the Office of Environmental Education (OEE) on its implementation of the Act. Members of the public are invited to attend and to submit written comments to EPA following the meeting.

For additional information regarding the Council's upcoming meeting, please contact Ginger Keho, Office of Environmental Education (1704), Office of Communications, Education and Media Relations, U.S. Environmental Protection Agency, 1200 Pennsylvania Avenue, NW., Washington, DC 20460 or call (202) 564-0453.

Dated: January 8, 2002.
Ginger Keho,
Designated Federal Official, National Environmental Education Advisory Council.

[FR Doc. 02-957 Filed 1-14-02; 8:45 am]

BILLING CODE 6560-50-N